DEPARTMENT OF TRANSPORTATION

Federal Aviation Administration

Notice of Intent To Rule on Application To Impose and Use the Revenue From a Passenger Facility Charge (PFC) at Savannah International Airport, Savannah, GA

AGENCY: Federal Aviation Administration (FAA), DOT.

ACTION: Notice of intent to rule on application.

SUMMARY: The FAA proposes to rule and invites public comment on the application to impose and use the revenue from a PFC at Savannah International Airport under the provisions of the Aviation Safety and Capacity Expansion Act of 1990 (Title IX of the Omnibus Budget Reconciliation Act of 1990) (Public Law 101-508) and Part 158 of the Federal Aviation Regulations (14 CFR Part 158).

DATES: Comments must be received on or before September 30, 2002.

ADDRESSES: Comments on this application may be mailed or delivered in triplicate to the FAA at the following address: Atlanta Airports District Office, 1701 Columbia Avenue, Suite 2-260, College Park, Georgia 30337-2747.

In addition, one copy of any comments submitted to the FAA must be mailed or delivered to Mr. Patrick S. Graham, Executive Director of the Savannah Airport Commission at the following address: Savannah Airport Commission, 400 Airways Avenue, Savannah, Georgia 31408.

Air carriers and foreign air carriers may submit copies of written comments previously provided to the Savannah Airport Commission under section 158.23 of part 158.

FOR FURTHER INFORMATION CONTACT: Phillip Cannon, Program Manager, Atlanta Airports District Office, 1701 Columbia Avenue, Suite 2-260, College Park, Georgia 30337-2747, 404-305-7152. The application may be reviewed in person at this same location.

SUPPLEMENTARY INFORMATION: The FAA proposes to rule and invites public comment on the application to impose and use the revenue from a PFC at Savannah International Airport under the provisions of the Aviation Safety and Capacity Expansion Act of 1990 (Title IX of the Omnibus Budget Reconciliation Act of 1990) (Public Law 101-508) and part 158 of the Federal Aviation Regulations (14 CFR part 158).

On August 22, 2002, the FAA determined that the application to impose and use the revenue from a PFC submitted by Savannah Airport Commission was substantially complete within the requirements of section 158.25 of part 158. The FAA will approve or disapprove the application, in whole or in part, no later than Date 120 Days Past Receipt Application or Supplement.

The following is a brief overview of the application.

PFC Application No.: 02-05-C-00-SAV.

Level of the proposed PFC: $4.50.

Proposed charge effective date: July 1, 2012.

Proposed charge expiration date: May 1, 2013.

Total estimated PFC revenue: $3,015,790.

Brief description of proposed project(s):

PAPI Runways 9 and 36 AIP 34

AAAE Interactive Training Package AIP 34

Finger Print Machine AIP 34

Design & Construction, New Ammo Bunker AIP 36

Purchase 6 Baggage Lifts & Installation

PFC Administration & Implementation

Purchase and Renovate 6 Loading Bridges

Flight Information Display System

South Bag Carousel #1

Design and Construct GA Taxiways

Class or classes of air carriers which the Savannah Airport Commission has requested not be required to collect PFCs: Air taxi/Commercial operators (ATCO) filing form 1800-31.

Any person may inspect the application in person at the FAA office listed above under FOR FURTHER INFORMATION CONTACT.

In addition, any person may, upon request, inspect the application, notice and other documents germane to the application in person at the Savannah Airport Commission.

Issued in College Park, Georgia, on August 22, 2002.
Scott L. Seritt,
Manager, Atlanta Airports District Office, Southern Region.

[FR Doc. 02-22122 Filed 8-29-02; 8:45 am]

BILLING CODE 4910-13-M